DEPARTMENT OF JUSTICE

Parole Commission

Sunshine Act Meeting; Public Announcement Pursuant to the Government in the Sunshine Act (Pub. L. 94-409) (5 U.S.C. 552b)

agency holding meeting: Department of Justice, United States Parole Commission.

date and time: 10:30 a.m., Tuesday, April 13, 2004.

place: U.S. Parole Commission, 5550 Friendship Blvd., Fourth Floor, Chevy Chase, MD 20815.

status: Closed—Meeting.

matters to be considered: The following matter will be considered during the closed portion of the Commission's Business Meeting:

Appeals to the Commission involving approximately two cases decided by the National Commissioners pursuant to a reference under 28 CFR 2.27. These cases were originally heard by an examiner panel wherein inmates of Federal prisons have applied for parole and are contesting revocation of parole or mandatory release.

agency contact: Thomas W. Hutchison, Chief of Staff, United States Parole Commission, (301) 492-5990.

Dated: April 7, 2004.
Rockne Chickinell,
General Counsel.

[FR Doc. 04-8289 Filed 4-8-04; 9:54 am]

BILLING CODE 4410-31-M